DEPARTMENT OF LABOR

Employment and Training Administration

[TA-W-57,892]

Cardinal Health 200, Incorporated Formerly Known as Allegiance Health Care Medical Products and Services Division Including Leased Production Workers of Select Personnel Services El Paso, TX; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 20, 2005, applicable to workers of Cardinal Health 200, Incorporated, Medical Products and Services Division, including leased production workers of Select Personnel Services, El Paso, Texas. The notice was published in the Federal Register on October 31, 2005 (70 FR 62347).

At the request of the State agency, the Department reviewed the certification for workers of the subject firm. The workers are engaged in the production of medical products such as disposable surgical gowns, drapes and packs.

New information shows that the subject firm, originally named Allegiance Health Care, was renamed Cardinal Health 200, Incorporated, due to a change in ownership. Workers separated from employment at the subject firm had their wages reported under a separate unemployment insurance (UI) tax account for Allegiance Health Care.

Accordingly, the Department is amending the certification to properly reflect this matter.

The intent of the Department's certification is to include all workers of Cardinal Health 200, Incorporated, Medical Products and Services Division who were adversely affected by a shift in production to Mexico.

The amended notice applicable to TA-W-57,892 is hereby issued as follows:

”All workers of Cardinal Health 200, Incorporated, formerly known as Allegiance Health Care, Medical Products and Services Division, including leased on-site workers of Select Personnel Services, El Paso, Texas, who became totally or partially separated from employment on or after August 23, 2004, through September 20, 2007, are eligible to apply for adjustment assistance under section 223 of the Trade Act of 1974, and are also eligible to apply for alternative trade adjustment assistance under Section 246 of the Trade Act of 1974.”

Signed at Washington, DC, this 15th day of November 2005.
Richard Church,
Certifying Officer, Division of Trade Adjustment Assistance.

[FR Doc. E5-6995 Filed 12-6-05; 8:45 am]

BILLING CODE 4510-30-P